COMMITTEE FOR PURCHASE FROM PEOPLE WHO ARE BLIND OR SEVERELY DISABLED

Procurement List; Proposed Additions

AGENCY: Committee for Purchase From People Who are Blind or Severely Disabled.

ACTION: Proposed additions to the procurement list.

SUMMARY: The Committee is proposing to add products and services to the Procurement List that will be furnished by nonprofit agencies employing persons who are blind or have other severe disabilities.

DATES: Comments must be received on or before 7/23/2012.

ADDRESSES: Committee for Purchase From People Who Are Blind or Severely Disabled, Jefferson Plaza 2, Suite 10800, 1421 Jefferson Davis Highway, Arlington, Virginia, 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Revision

On 5/25/2012 (77 FR 31335-31336), the Committee for Purchase From People Who Are Blind or Severely Disabled proposed the addition of two Containerized Unitized Bulk Equipment (CUBE) Lifeliners, NSNs 1670-01-598-5067 and 1670-01-598-5071 to its Procurement List.

The Coverage statement associated with this proposed addition should have read as follows: Coverage: C-List for 100% of the requirement of the Department of the Army, as aggregated by the Army Contracting Command—Aberdeen Proving Ground, Natick Contracting Division, Natick, MA.

As previously announced, comments on the proposed addition must be received on or before June 25, 2012.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 8501-8506) in connection with the products and services proposed for addition to the Procurement List.

Comments on this certification are invited. Commenters should identify the statement(s) underlying the certification on which they are providing additional information.

End of Certification

The following products and services are proposed for addition to the Procurement List for production by the nonprofit agencies listed:

Products

NSN: 7510-01-156-7936—Presentation Folder, Dark Blue with Debossed Gold Seal, Soft Cover

NSN: 7510-01-GG0-1102—Award Folder, Public Service with White Debossed Gold Seal, Hard Cover

NSN: 7510-01-094-1485—Award Folder, Commandant Medal, Dark Blue with Debossed Gold Seal, Padded Cover

NSN: 7510-01-097-6004—Award Folder, Commandant Letter, Dark Blue with Debossed Gold Seal, Hard Cover

NPA: Dallas Lighthouse for the Blind, Inc., Dallas, TX

Contracting Activity: Dept of Homeland Security, U.S. Coast Guard, SFLC Procurement Branch 3, Baltimore, MD

COVERAGE: C-List for 100% of the requirement of the U.S. Coast Guard, as aggregated by the U.S. Coast Guard, Baltimore, MD.

Services

Service Type/Location: Firewatch/Tank Void/Lead Handler Support Services, Puget Sound Naval Ship Yards at Bremerton, Bangor and Keyport, 1400 Farragut Avenue, Bremerton, WA.

NPA: Skookum Educational Programs, Bremerton, WA.

Contracting Activity: Dept Of The Navy, Navsup Flt Log Ctr Puget Sound, Bremerton, WA.

Service Type/Location: Document Management Services, Department of Homeland Security, Customs and Border Protection, Passenger Systems Program Office, (Offsite: 3043 Sanitarium Road, Akron, OH), 1331 Pennsylvania Avenue NW., Washington, DC.

NPA: Coleman Professional Services, Kent, OH.

Contracting Activity: Dept of Homeland Security, U.S. Customs and Border Protection, Information Technology Contracting Division, Washington, DC.

Service Type/Location: Courier Service, Department of Homeland Security (DHS), U.S. Immigration and Customs Enforcement (USICE), Office of the Principal Legal Advisor, New York Office of Chief Counsel, 290 Broadway Street, New York, NY.

NPA: Fedcap Rehabilitation Services, Inc., New York, NY.

Contracting Activity: Dept of Homeland Security, U.S. Immigration and Customs Enforcement, Mission Support Orlando, Orlando, Fl.

Barry S. Lineback,
Director, Business Operations.

[FR Doc. 2012-15270 Filed 6-21-12; 8:45 am]

BILLING CODE 6353-01-P